DEPARTMENT OF ENERGY

Federal Energy Regulatory Commission

[Project No. 15045-002]

Current Hydro Project 19, LLC; Notice of Application Ready for Environmental Analysis and Soliciting Comments, Recommendations, Terms and Conditions, and Prescriptions

Take notice that the following hydroelectric application has been filed with the Commission and is available for public inspection.

a. Type of Application: Original Major License.

b. Project No.: 15045-002.

c. Date filed: May 8, 2024.

d. Applicant: Current Hydro Project 19, LLC (Current Hydro).

e. Name of Project: New Cumberland Hydroelectric Project (New Cumberland Project).

f. Location: The proposed project would be located at the U.S. Army Corps of Engineers' (Corps) New Cumberland Locks and Dam on the Ohio River in Hancock County, West Virginia. The proposed project would occupy 2.82 acres of federal land administered by the Corps.

g. Filed Pursuant to: Federal Power Act 16 U.S.C. 791(a)-825(r).

h. Applicant Contact: Jeremy King, P.E., Chief Executive Officer, Current Hydro, 3150 Southwest Freeway, Suite 101, PMB 50808, Houston, TX 77098; email: n.jeremy@currenthydro.com; or Hailee Kessel, Director of Regulatory Affairs, Current Hydro, 3150 Southwest Freeway, Suite 101, PMB 50808, Houston, TX 77098; phone: (315) 558-9834 or email: hailee@currenthydro.com.

i. FERC Contact: Colleen Corballis, (202) 502-8598 or colleen.corballis@ferc.gov.

j. Deadline for filing comments, recommendations, terms and conditions, and prescriptions: on or before 5:00 p.m. Eastern Time on October 27, 2025; reply comments are due on or before 5:00 p.m. Eastern Time on November 10, 2025.¹

¹ Commission staff is aware that the project sponsor intends to pay a fee under section 112 of the National Environmental Policy Act (NEPA), which establishes a deadline for the NEPA review of these projects, and is awaiting notice from the Council on Environmental Quality that the fee has been paid. Therefore, we are waiving, in part, 18 CFR 4.34(b) to shorten the deadline for filing comments, recommendations, terms and conditions, prescriptions, and reply comments to accommodate the expected schedule required under section 112 of NEPA. See 42 U.S.C. 4336f.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: New Cumberland Hydroelectric Project (P-15045-002).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.²

² A notice of intent to prepare a NEPA document will be forthcoming.

l. The proposed project would use the Corps' existing New Cumberland Locks and Dam and would consist of the following proposed features: (1) a 90-foot-wide, 350-foot-long, and 69-foot-high intake section with trash racks; (2) a 186.8-foot-long, 98-foot-wide, and 74.5-foot-high concrete powerhouse on the east bank of the Ohio River; (3) two identical Kaplan pit turbine-generators with a total installed capacity of 19.999 megawatts; (4) a 95-foot-wide, 215-foot-long tailrace channel; (5) a 180-foot-long, 12.47-kilovolt (kV), 22.2-megavolt ampere underground transmission line crossing under the Norfolk Southern Railway, transitioning to a 350-foot-long overhead transmission line to a substation; (6) a 90-foot-long, 90-foot-wide powerhouse substation, including a 1,050-foot-long, 138-kV, three phase overhead transmission line connecting the powerhouse substation to the existing 138-kV transmission line; and (7) appurtenant facilities. The proposed project would have an estimate average annual generation of 132.4 gigawatt hours.

Current Hydro proposes to operate the New Cumberland Project in a run-of-release mode, meaning it would generate using flows made available by the Corps. More specifically, the project outflow would equal project inflow made available for generation via normal water flow of the Ohio River, according to the Corps' existing water level and discharge management practices. The proposed project would only use flows made available for release according to daily operation guidelines and directives issued by the Corps as part of its project river management. The Corps would continue to regulate water elevation and discharge according to its current operation guidelines.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

All filings must (1) bear in all capital letters the title “COMMENTS,” “REPLY COMMENTS,” “RECOMMENDATIONS,” “TERMS AND CONDITIONS,” or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. The applicant must file the following on or before 5:00 p.m. Eastern Time on November 24, 2025: (1) copy of the water quality certification; (2) a copy of the request for certification, including proof of the date on which the certifying agency received the request; or (3) evidence of a waiver of water quality certification.

o. Final amendments to the application must be filed with the Commission on or before 5:00 p.m. Eastern Time on October 27, 2025.

Dated: September 25, 2025.
Debbie-Anne A. Reese,
Secretary.

[FR Doc. 2025-18999 Filed 9-29-25; 8:45 am]

BILLING CODE 6717-01-P